DEPARTMENT OF COMMERCE

Submission for OMB Review; Comment Request

The Department of Commerce will submit to the Office of Management and Budget (OMB) for clearance the following proposal for collection of information under the emergency provisions of the Paperwork Reduction Act (44 U.S.C. Chapter 35).

Agency: International Trade Administration (ITA).

Title: Interim Procedures for Considering Requests under the Commercial Availability Provision of the United States-Korea Free Trade Agreement.

OMB Control Number: 0625-0270.

Type of Request: Emergency submission.

In the Federal Register of February 5, 2016, Vol. 81, No. 24, Page 6234, the type of Request should read: “Regular Submission.”

Also, under “Needs and Uses:” paragraph 3, beginning with “Section 202(o)(3) of the Act . . .”, eliminate the last sentence: “OTEX was unable to publish these procedures earlier and is requesting an emergency review of the information collection and procedures from the Office of Management and Budget (OMB).”

Dated: February 19, 2016.
Glenna Mickelson,
Management Analyst, Office of the Chief Information Officer.

[FR Doc. 2016-03918 Filed 2-23-16; 8:45 am]

BILLING CODE 3510-FP-P